DEPARTMENT OF HEALTH AND HUMAN SERVICES

National Institutes of Health

Center for Scientific Review; Amendment Notice of Meeting

Notice is hereby given of a change in the meeting of the Center for Scientific Review Special Emphasis Panel, June 21, 2005, 2 p.m. to June 21, 2005, 4 p.m., National Institutes of Health, 6701 Rockledge Drive, Bethesda, MD, 20892 which was published in the Federal Register on June 24, 2005, 70 FR 36648.

The meeting will be held on July 21, 2005. The meeting time and location remains the same. The meeting is closed to the public.

Dated: June 28, 2005.
LaVerne Y. Stringfield,
Director, Office of Federal Advisory Committee Policy.

[FR Doc. 05-13457 Filed 7-7-05; 8:45 am]

BILLING CODE 4140-01-M